DEPARTMENT OF COMMERCE

National Oceanic and Atmospheric Administration

RIN 0648-XG763

Caribbean Fishery Management Council; Public Meeting

AGENCY: National Marine Fisheries Service (NMFS), National Oceanic and Atmospheric Administration (NOAA), Commerce.

ACTION: Notice of a public meeting.

SUMMARY: The Caribbean Fishery Management Council's (Council) Outreach and Education Advisory Panel (OEAP) will hold a 2-day meeting in March to discuss the items contained in the agenda in the SUPPLEMENTARY INFORMATION.

DATES: The meetings will be held on March 14, 2019, from 10 a.m. to 4 p.m. and on March 15, 2019, from 10 a.m. to 4 p.m.

ADDRESSES: The meetings will be held at the CFMC Headquarters, 270 Muñoz Rivera Avenue, Suite 401, San Juan, Puerto Rico 00918.

FOR FURTHER INFORMATION CONTACT: Caribbean Fishery Management Council, 270 Muñoz Rivera Avenue, Suite 401, San Juan, Puerto Rico 00918-1903, telephone: (787) 766-5926.

SUPPLEMENTARY INFORMATION:

March 14, 2019, 10 a.m.-4 p.m.

○ Call to Order

○ Adoption of Agenda

○ OEAP Chairperson's Report

• Status of:

○ OEAP members meeting attendance

○ O & E activities/projects proposed for 2019-20

Posters

Short videos

Book “Know the marine ecosystems of the Caribbean Sea fishery”

○ Island-Based Fisheries Management Plans (IBFMPs)

Orientation meetings

Participation of OEAP members

○ Fishery Ecosystem Plan (FEP)

Outreach & Education initiatives for stakeholders (fishers and consumers)

○ Responsible Seafood Consumption Campaign

○ USVI activities

March 15, 2019, 10 a.m.-4 p.m.

○ St Croix Fishers video by GeoAmbiente

○ 2020 Calendar

○ Caribbean Fishery App

○ CFMC Facebook communications with stakeholders

○ PEPCO

○ MREP Caribbean

• Other Business

The order of business may be adjusted as necessary to accommodate the completion of agenda items. The meeting will begin on March 14, 2019 at 10 a.m. and will end on March 15, 2019 at 4 p.m. Other than the start time, interested parties should be aware that discussions may start earlier or later than indicated. In addition, the meeting may be extended from, or completed prior to the date established in this notice

Special Accommodations

These meetings are physically accessible to people with disabilities. For more information or request for sign language interpretation and other auxiliary aids, please contact Mr. Miguel A. Rolón, Executive Director, Caribbean Fishery Management Council, 270 Muñoz Rivera Avenue, Suite 401, San Juan, Puerto Rico 00918-1903, telephone: (787) 766-5926, at least 5 days prior to the meeting date.

Dated: February 1, 2019.
Jennifer M. Wallace,
Acting Director, Office of Sustainable Fisheries, National Marine Fisheries Service.

[FR Doc. 2019-01290 Filed 2-5-19; 8:45 am]

BILLING CODE 3510-22-P